DEPARTMENT OF TRANSPORTATION

Pipeline and Hazardous Materials Safety Administration, Office of Hazardous Materials Safety

Notice of Delays in Processing of Special Permit Applications

AGENCY: Pipeline and Hazardous Safety Administration, DOT.

ACTION: List of applications delayed more than 180 days.

SUMMARY: In accordance with the requirements of 49 U.S.C. 5117(c), PHMSA is publishing the following list of special permit applications that have been in process for 180 days or more. The reason(s) for delay and the expected completion date for action on each application is provided in association with each identified application.

FOR FURTHER INFORMATION CONTACT: Ann Mazzullo, Office of Hazardous Materials Special Permits and Approvals, Pipeline and Hazardous Materials Safety Administration, U.S. Department of Transportation, 400 Seventh Street, SW., Washington, DC 20590-0001, (202) 366-4535.

Key to ``Reason for Delay''

1. Awaiting additional information from applicant.

2. Extensive public comment under review.

3. Application is technically complex and is of significant impact or precedent-setting and requires extensive analysis.

4. Staff review delayed by other priority issues or volume of special permit applications.

Meaning of Application Number Suffixes

N—new applications.

M—Modification request.

X—Renewal.

PM—Party to application with modification request.

Issued in Washington, DC, on August 1, 2006.
Delmer Billings,
Director, Office of Hazardous Materials Safety, Special Permits & Approvals.

Modification to Exemptions
Application No. | Applicant | Reason for delay | Estimated date of completion
11903-M | Comptank Corporation, Bothwell, ON | 4 | 08-31-2006
13583-M | Structural Composites Industries, Pomona, CA | 3, 4 | 08-31-2006
12677-M | Austin Powder Illinois Company, Cleveland, OH | 1 | 08-31-2006
10945-M | Structural Composites Industries, Pomona, CA | 4 | 09-30-2006

New Exemption Applications
Application No. | Applicant | Reason for delay | Estimated date of completion
13563-N | Applied Companies, Valencia, CA | 1 | 08-31-2006
14229-N | Senex Explosives, Inc., Cuddy, PA | 4 | 08-31-2006
14232-N | Luxfer Gas Cylinders—Composite Cylinder Division, Riverside, CA | 4 | 08-31-2006
14285-N | INO Therapeutics LLC, Port Allen, LA | 4 | 08-31-2006
14298-N | Air Products and Chemicals, Inc., Allentown, PA | 4 | 08-31-2006
14318-N | Lockheed Martin Technical Operations, Vandenberg AFB, CA | 4 | 08-31-2006
14310-N | Praxair, Danbury, CT | 4 | 09-30-2006
14314-N | North American Automotive Hazmat Action Committee | 4 | 08-31-2006
14316-N | VOTG North America, Inc., West Chester, PA | 4 | 08-31-2006
14301-N | Triple S Gas Tanks (PTY) Ltd dba GasCon, Elsieriver, South Africa | 4 | 09-30-2006
14289-N | City Machine & Welding, Inc., Amarillo, TX | 4 | 08-31-2006
14277-N | Ascus Technologies, Ltd., Cleveland, OH | 3, 4 | 08-31-2006
14266-N | NCF Industries, Inc., Santa Maria, CA | 3 | 08-31-2006
14239-N | Marlin Gas Transport, Inc., Odessa, FL | 1 | 08-31-2006
14237-N | Advanced Technology Materials, Inc. (ATMI), Danbury, CT | 1 | 08-31-2006
14257-N | Origin Energy American Samoa, Inc., Pago Pago, AS | 4 | 08-31-2006

[FR Doc. 06-6744 Filed 8-7-06; 8:45 am]

BILLING CODE 4910-60-M